DEPARTMENT OF HEALTH AND HUMAN SERVICES

Administration for Children and Families

Proposed Information Collection Activity; Head Start REACH: Strengthening Outreach, Recruitment, and Engagement Approaches With Families—Mixed Methods Study (New Collection)

AGENCY: Office of Planning, Research, and Evaluation, Administration for Children and Families, U.S. Department of Health and Human Services.

ACTION: Request for public comments.

SUMMARY: The Administration for Children and Families (ACF) within the U.S. Department of Health and Human Services (HHS) is proposing to collect data on different approaches that Head Start programs use to recruit, select, and enroll families, and the ways in which such practices reflect programs' community contexts. We are not attempting to recruit a nationally representative sample. Instead, the study will aim to obtain a variety of eligibility, recruitment, selection, enrollment, and attendance (ERSEA) practices and experiences to explore how these practices and experiences intersect with different adversities, demographic characteristics, and community contexts.

DATES: Comments due within 60 days of publication. In compliance with the requirements of the Paperwork Reduction Act of 1995, ACF is soliciting public comment on the specific aspects of the information collection described above.

ADDRESSES: You can obtain copies of the proposed collection of information and submit comments by emailing OPREinfocollection@acf.hhs.gov. Identify all requests by the title of the information collection.

SUPPLEMENTARY INFORMATION:

Description: Building on information collected previously through case studies (OMB #0970-0580), the Head Start REACH: Strengthening Outreach, Recruitment, and Engagement Approaches with Families Project is proposing to conduct a mixed-methods study to expand understanding of (1) how Head Start programs implement recruitment, selection, and enrollment practices; and (2) the ways in which practices reflect programs' community contexts. The mixed-methods study would achieve several goals including (1) providing in-depth contextual information about recruitment, selection, and enrollment practices and experiences; (2) identifying promising recruitment, selection, and enrollment practices and experiences; and (3) informing training and technical assistance regarding recruitment, selection, and enrollment challenges and needs. We will aim to collect information from 60 Head Start and Early Head Start programs in 15 geographic areas in states, from Head Start regions I-X, located in census tracts where the rate of deep poverty is high.

We will collect information about the characteristics of families in Head Start programs and their communities; programs' enrollment numbers and goals; programs' use and perceived effectiveness of and challenges with recruitment, selection, and enrollment practices; promising recruitment, selection, and enrollment practices for potential future replication; families' reasons for choosing Head Start and experiences with and perceptions of recruitment, selection, and enrollment practices; and how community partner staff support recruitment, selection, and enrollment of families into Head Start. The findings are intended to help Head Start programs understand how to support the needs of families facing adversities. We will disseminate findings in a report, research brief, and presentations or briefings.

Respondents: Head Start program directors (one per program), ERSEA lead staff (one per program), Head Start parents/caregivers (up to 10 per program), and staff from community organizations with which Head Start programs partner for ERSEA activities (four in each geographic area).

Annual Burden Estimates
Instrument | Number of respondents (total over request period) | Number of responses per respondent (total over request period) | Average burden per response (in hours) | Total/annual burden (in hours)
Program director survey (Instrument 1) | 60 | 1 | 0.17 | 10.2
ERSEA lead staff survey (Instrument 2) | 60 | 1 | 0.75 | 45
Onsite coordination ᵃ | 60 | 1 | 1.5 | 90
Head Start parent/caregiver survey (Instrument 3) | 600 | 1 | 0.5 | 300
Community partner survey (Instrument 4) | 60 | 1 | 0.25 | 15
ERSEA lead staff focus group guide (Instrument 5) | 24 | 1 | 1.5 | 36
Estimated Total Annual Burden Hours |  |  |  | 496.2
ᵃ There is no instrument associated with this activity. We will ask each program director to nominate a staff person who will help coordinate data collection activities. This line accounts for the time of the onsite coordinator.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Head Start Act Section 640 [42 U.S.C. 9835].

Mary C. Jones,
ACF/OPRE Certifying Officer.

[FR Doc. 2024-04520 Filed 3-1-24; 8:45 am]

BILLING CODE 4184-22-P